DEPARTMENT OF COMMERCE

National Oceanic and Atmospheric Administration

[Docket No. 070416085-7085-01; I.D. 040907A]

Fishing Capacity Reduction Program for the Longline Catcher Processor Subsector of the Bering Sea/Aleutian Islands (BSAI) Non-Pollock Groundfish Fishery

AGENCY: National Marine Fisheries Service (NMFS), National Oceanic and Atmospheric Administration, Commerce.

ACTION: Notice of BSAI Non-Pollock Groundfish Longline Catcher Processor Subsector reduction payment tender.

SUMMARY: NMFS issues this notice to inform the public about tendering reduction payments under the longline catcher processor subsector of the Bering Sea/Aleutian Islands (BSAI) non-pollock groundfish fishery. The Freezer Longline Conservation Cooperative (FLCC) conducted the offer and selection process, submitted the reduction plan, and accepted four offers to remove groundfish license limitation program (LLP) licenses. A successful referendum approved the reduction loan repayment fees of $35 million. Accordingly, NMFS is preparing to tender reduction payments to accepted offerors.

DATES: The public has until May 29, 2007 to inform NMFS of any holding, owning, or retaining claims that conflict with the representations of offers as presented by the FLCC.

ADDRESSES: Send questions about this notice to Leo Erwin, Chief, Financial Services Division, National Marine Fisheries Service, 1315 East-West Highway, Silver Spring, MD 20910-3282.

FOR FURTHER INFORMATION CONTACT: Leo Erwin, (301) 713-2390.

SUPPLEMENTARY INFORMATION:

I. Background

Section 219(e) of the Consolidated Appropriations Act of 2005 established the BSAI non-pollock groundfish longline catcher processor subsector fishing capacity reduction program (program). The program was implemented after the proposed rule was published in the Federal Register on August 11, 2006 (71 FR 46364) and the final rule on September 29, 2006 (71 FR 57696). Persons wanting further program details should refer to these rules.

The program's objectives include promoting sustainable fishery management and maximum sustained reduction of fishing capacity from the longline catcher processor subsector at the least cost. This is a voluntary program in which, in return for reduction payments, offerors permanently relinquish their fishing licenses, surrender the fishing histories upon which those licenses' issuance were based, and permanently withdraw vessels from fishing.

NMFS finances the program's $35 million cost, which post-reduction BSAI non-pollock groundfish longline catcher processors repay over a 30-year term. The fee amount, expressed in cents per pound rounded up to the next one-tenth of a cent, will be based upon the annual principal and interest due on the loan and could be up to 5 percent of longline subsector BSAI Pacific cod landings. In the event that the total principal and interest due exceeds 5 percent of the ex-vessel Pacific cod revenues, an additional fee of one penny per pound will be assessed for pollock, arrowtooth flounder, Greenland turbot, skate, yellowfin sole and rock sole.

The FLCC received member offers and subsequently voted to accept four offers. The FLCC used the reduction contracts NMFS published in the Federal Register (71 FR 57701). The FLCC submitted a fishing capacity reduction plan (plan) subsequently approved by NMFS. A referendum concerning the fees necessary for repayment of the $35 million loan followed the offer and acceptance process. Approval of the industry fee system required at least two-thirds of the votes cast in the referendum to be in favor before the program could be implemented and payment tendered.

II. Present Status

NMFS mailed ballots to 39 qualified referendum voters on March 21, 2007, after approving the plan. The voting period opened on March 21, 2007, and closed on April 6, 2007. NMFS received 34 timely and valid votes. All of the votes approved the fees. This exceeded the two-thirds minimum required for industry fee system approval. Consequently, this referendum was successful and approved the industry fee system. Accordingly, the reduction contracts are in full force and effect and NMFS is now preparing to tender and disburse reduction payments to selected offerors.

III. Purpose

NMFS publishes this notification to inform the public before tendering reduction payments to the four accepted offers. NMFS will tender reduction payments on May 29, 2007. When NMFS tenders a reduction payment to a selected offeror, the selected offeror must permanently stop all further fishing with each reduction license and reduction privilege vessel the offeror has relinquished. NMFS will then:

(a) Permanently revoke the groundfish reduction permit and any other reduction permit(s);

(b) Notify the National Vessel Documentation Center to permanently revoke the reduction privilege vessel's fisheries trade endorsement;

(c) Notify the U.S. Maritime Administration to make the reduction privilege vessel permanently ineligible for the approval of requests to place the vessel under a foreign country's authority; and

(d) Record that the reduction fishing history represented by any documented harvest fishing history accrued on, under, or as a result of the operation of the reduction privilege vessel and/or reduction fishing vessel, the groundfish reduction permit, and the reduction permit(s) which could ever qualify the offeror for any future limited access fishing license, fishing permit, or any other harvesting privilege of any kind shall never again be available to anyone for any fisheries purpose.

The selected offeror has, in accordance with the reduction contract agreed to notify all creditors or other parties with interests in the reduction privilege vessel and/or any of the reduction permit(s) specified in the reduction contract that the selected offeror has entered into the reduction contract with respect to such vessel and permit(s).

This notice provides the public (including creditors or other parties) 30 days from May 29, 2007 to advise NMFS in writing of any holding, owning, or retaining claims that conflict with the representations of offers as presented by the FLCC.

IV. Selected Offerors, Vessels, and Licenses

The table below establishes:

(a) The names of the selected offerors;

(b) The names and official numbers of the reduction privilege vessels whose worldwide fishing privileges the selected offerors relinquished; and

(c) The area endorsements and license numbers of the reduction permits the selected offerors relinquished.

Selected Offeror | Vessel Name and Official Number | Area Endorsements | License Number
Northern Aurora Fisheries, Inc. | Northern Aurora, 596308 | BSAI groundfish, CPHAL | LLG 2678, FFP 1613
Horizon Fisheries, LLC | Horizon, 586183 | BSAI groundfish, Central Gulf groundfish, Western Gulf groundfish, CPHAL, BSAI Opilio crab | LLG 3843, LLC 3844, FFP 1301
Western Queen Fisheries, LLC | Western Queen, 284906 | BSAI groundfish, CPHAL | LLG 3936,FFP 2647
Ocean Prowler, LLC - Inactive License only | Not Applicable | BSAI groundfish, Cental Gulf groundfish, CPHAL | LLG 3961

Authority

The authority for this action is 5 U.S.C. 561, 16 U.S.C. 1801, 16 U.S.C. 1861a(b) through (e), 46 App. U.S.C. 1279f and 1279g, section 144(d) of Division B of Pub. L. 106-554, section 2201 of Pub. L. 107-20, section 205 of Pub. L. 107-117, Pub. L. 107-206, Pub. L. 108-7, Pub. L. 108-199, and Pub. L. 108-447.

Dated: April 20, 2007.
Samuel D. Rauch III,
Deputy Assistanat Administrator for Regulatory Programs, National Marine Fisheries Service.

[FR Doc. E7-7935 Filed 4-25-07; 8:45 am]

BILLING CODE 3510-22-S